DEPARTMENT OF LABOR

Employment and Training Administration

Workforce Investment Act of 1998 (WIA); Notice of Incentive Funding Availability

AGENCY: Employment and Training Administration (ETA), Labor.

ACTION: Notice of incentive funding availability for the Workforce Investment Act of 1998.

SUMMARY: The Department of Labor, in collaboration with the Department of Education, announces that six States, (Florida, Indiana, Kentucky, Texas, Utah and Vermont), are eligible to apply for WIA incentive awards under the WIA Regulations.

DATE: The six eligible States must submit their applications for incentive funding to the Department of Labor by June 18, 2001.

FOR FURTHER INFORMATION CONTACT: Mr. William Rabung (e-mail: wrabung@doleta.gov), Office of Workforce Security, U.S. Department of Labor, Employment and Training Administration, 200 Constitution Avenue NW., Room S-4231, Washington, DC 20210, telephone: (202) 693-3190 (voice) (This is not a toll-free number) or 1-800-326-2577 (TDD). Information may also be found at the website: http://usworkforce.org.

SUPPLEMENTARY INFORMATION: Six States that took the lead on implementing provisions of the Workforce Investment Act, (WIA), one year ahead of the full implementation date, have qualified for a share of the $10.08 million available for incentive grant awards. These funds, authorized by 20 CFR 666.220, are available for a three year period to support innovative workforce system building activities which are eligible under title I or title II of WIA, or under the Perkins Act (Perkins III).

In order to qualify for a grant award, a State must have exceeded performance levels, agreed to by the Secretaries, Governor, and State Education Officer, for outcomes in State operated employment and adult education programs. The goals included placement after training, retention in employment, and improvement in literacy levels, among other measures.

The States eligible to apply for incentive grant awards, and the amount they are eligible to receive are Florida, $2,645,125; Indiana, $1,308,726; Kentucky, $1,400,631; Texas, $3,000,000; Utah, $882,167; and Vermont $843,351. The six eligible States must submit their applications for incentive funding to the Department of Labor by June 18, 2001. As set forth in the provisions of WIA section 503(b)(2), and 20 CFR 666.220(b), the application must include assurances that:

A. The legislature of the State was consulted with respect to the development of the application.

B. The application was approved by the Governor, the eligible agency for adult education (as defined in section 203 of WIA), and the State agency responsible for vocational and technical education programs.

C. The State and the eligible State agency, as appropriate, exceeded the State adjusted levels of performance for WIA title I, and the expected levels of performance for WIA title II.

In addition, States are requested to provide a description of the planned use of incentive grants as part of the application process, to ensure that the State's planned activities are innovative and are authorized under the WIA Title I, the Adult Education and Family Literacy Act, and/or the Perkins Act as amended, as required by WIA Section 503(a).

These applications may take the form of a letter from the Governor, or designee, to the Deputy Assistant Secretary of Labor, Raymond J. Uhalde, Attention: William Rabung, 200 Constitution Avenue, Room S-4231, Washington, DC 20210. The States will receive their incentive grant awards this summer.

Signed at Washington, D.C., on April 27, 2001.
Raymond J. Uhalde,
Deputy Assistant Secretary of Labor, Employment and Training Administration.

[FR Doc. 01-11096 Filed 5-2-01; 8:45 am]

BILLING CODE 4510-30-P